DEPARTMENT OF AGRICULTURE

Forest Service

Siskiyou, OR Resource Advisory Committee

AGENCY: Forest Service, USDA.

ACTION: Notice of meeting.

SUMMARY: The Siskiyou, OR Resource Advisory Committee will meet in Grants Pass, Oregon. The committee is meeting as authorized under the Secure Rural Schools and Community Self-Determination Act (Pub. L. 110-343) and in compliance with the Federal Advisory Committee Act. The purpose of the meeting is to review and recommend projects submitted for funding under Title II of The Secure Rural Schools and Community Self- Determination Act of 2000, review existing projects, and elect a chairperson.

DATES: The meeting will be held July 20, 2010, 9 a.m.

ADDRESSES: The meeting will be held at 101 NW. A Street, Grants Pass, OR in the Grants Pass City Council Chambers. Written comments should be sent to Paul Galloway, Medford Interagency Office, 3040 Biddle Road, Medford, OR 97504.

Comments may also be sent via e-mail to pgalloway@fs.fed.us, or via facsimile to 541-618-2143.

All comments, including names and addresses when provided, are placed in the record and are available for public inspection and copying. The public may inspect comments received at Medford Interagency Office, 3040 Biddle Road, Medford, OR 97504. Visitors are encouraged to call ahead to 541-618-2113 to facilitate entry into the building.

FOR FURTHER INFORMATION CONTACT: Paul Galloway, Acting Public Affairs Officer, Rogue River-Siskiyou National Forest, 541-618-2113, pgalloway@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Elect new chair, review status of FY2009 and FY2010 projects selected by the Siskiyou, OR Resource Advisory Committee, review and recommend FY2011 projects to the Designated Federal Official. Persons who wish to bring related matters to the attention of the Committee may file written statements with the Committee staff before or after the meeting. A public input session will be provided during the meeting and individuals who are present will have the opportunity to address the Committee during that session.

Dated: June 24, 2010.
Scott D. Conroy,
Forest Supervisor, Rogue River-Siskiyou National Forest.

[FR Doc. 2010-16064 Filed 7-2-10; 8:45 am]

BILLING CODE 3410-11-M